DEPARTMENT OF VETERANS AFFAIRS

Advisory Committee on Former Prisoners of War, Notice of Meeting

The Department of Veterans Affairs (VA) gives notice under the Federal Advisory Committee Act, 5 U.S.C. ch. 10., that the Advisory Committee on Former Prisoners of War (ACFPOW) will conduct a hybrid meeting (in-person and virtual) on August 30, 2023 and August 31, 2023 at various times and multiple locations in Washington, DC. The meeting sessions will begin and end as follows:

Public participation will commence as follows:

Date | Time | Location | Open session
August 30, 2023 | 8:00 a.m.-4:00 p.m.—Eastern Standard Time (EST) | 810 Vermont Avenue NW, Sonny Montgomery Room 230, Washington, DC 20420/Webex Link and Call-in Information Below | Yes.
August 31, 2023 | 9:00 a.m.-10:30 a.m. (EDT) | Washington VA Medical Center, 50 Irving Street NW, Washington, DC 20420/Webex Link and Call-in Information Below | Yes.
August 31, 2023 | 11:00 a.m.-1:00 p.m. (EDT) | Washington VA Medical Center, 50 Irving Street NW, Washington, DC 20420 | No.
August 31, 2023 | 1:00 p.m.-5:00 p.m. (EDT) | 810 Vermont Avenue NW, Sonny Montgomery Room 230, Washington, DC 20420/Webex Link and Call-in Information Below | Yes.

Sessions are open to the public, except when the Committee is conducting a tour of VA facilities. Tours of VA facilities are closed, to protect Veterans' privacy and personal information, by 5 U.S.C. 552b(c)(6).

The purpose of the Committee is to advise the Secretary of Veterans Affairs on the administration of benefits under title 38 U.S.C., for Veterans who are Former Prisoners of War (FPOW), and to make recommendations on the needs of such Veterans for compensation, health care and rehabilitation.

On Wednesday, August 30th, the Committee will assemble in open session from 8:00 a.m. to 4:00 p.m. for discussion and briefings from senior leadership with Veterans Affairs Central Office, Veterans Benefits Administration and Veterans Health Administration officials.

On Thursday, August 31st, the Committee will assemble in open session from 9:00 a.m. to 10:30 a.m. for discussion and briefings from VA Washington DC Healthcare and the Baltimore Regional Office officials. The Committee will then convene a closed session from 11:00 a.m.-1:00 p.m. to tour the Washington DC VA Medical Center in conjunction with lunch.

Any member of the public wishing to attend the meeting or seeking additional information should contact, Designated Federal Officer, Department of Veterans Affairs, Advisory Committee on Former Prisoners of War at Julian.Wright2@va.gov.

Any member of the public who wishes to participate in the virtual meeting may use the following Cisco Webex Meeting Links:

Join On Your Computer or Mobile App

Day 1

https://veteransaffairs.webex.com/veteransaffairs/j.php?MTID=mbf66ee71738417c8894f48c3f32d4a48

Webinar Number: 2760 144 0627

Dial 27601440627@veteransaffairs.webex.com

You can also dial 207.182.190.20 and enter your webinar number.

Join by phone

14043971596 USA Toll Number

Access code 2760 144 0627

Day 2

https://veteransaffairs.webex.com/veteransaffairs/j.php?MTID=mbe296f038ca41d484fdc4a8989ff627f

Webinar Number: 2764 210 3612

Dial 27642103612@veteransaffairs.webex.com

You can also dial 207.182.190.20 and enter your webinar number.

Join by phone

14043971596 USA Toll Number

Access code 2764 210 3612

Dated: August 7, 2023.
Jelessa M. Burney,
Federal Advisory Committee Management Officer.

[FR Doc. 2023-17148 Filed 8-9-23; 8:45 am]

BILLING CODE P